DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its Legal Collections, OMB Control Number 1910-0800. This information collection request covers information necessary to legal collections related to invention reporting by DOE contractors, and related matters. The information is used by DOE management to exercise management oversight with respect to the implementation of applicable statutory and contractual requirements and obligations.

DATES: Comments regarding this collection must be received on or before April 24, 2008. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503, and to Robert Marchick, GC-62, U.S. Dept. of Energy, 1000 Independence Ave, SW., Washington, DC 20585.

FOR FURTHER INFORMATION CONTACT: Robert Marchick, at the address listed above.

SUPPLEMENTARY INFORMATION: This information collection request contains: (1) OMB No. 1910-0800; (2) Information Collection Request Title: Legal Collections; (3) Purpose: To continue to maintain DOE control and oversight of DOE and contractor invention reporting and related matters; (4) Estimated Number of Respondents 2160; (5) Estimated Total Burden Hours: 16745; (6) Number of Collections: The information collection request contains 5 information and/or recordkeeping requirements.

Statutory Authority: 42 U.S.C. 5908 (a) and (b).

Issued in Washington, DC on March 19, 2008.
Robert J. Marchick,
Acting Assistant General Counsel for Technology Transfer and Intellectual Property, Office of General Counsel.

[FR Doc. E8-5992 Filed 3-24-08; 8:45 am]

BILLING CODE 6450-01-P